DEPARTMENT OF THE INTERIOR

National Park Service

Draft General Management Plan, Environmental Impact Statement, Mount Rainier National Park, Washington

AGENCY: National Park Service, Interior.

ACTION: Notice of Availability of Draft Environmental Impact Statement and General Management Plan.

SUMMARY: Pursuant to section 102(2)(c) of the National Environmental Policy Act of 1969, the National Park Service (NPS) announces the availability of a Draft Environmental Impact Statement and General Management Plan (DEIS/GMP) for Mount Rainier National Park, Washington.

DATES: Comments on the DEIS/GMP will be accepted through February 9, 2001. Public meetings concerning the DEIS/GMP will be held at the following locations and dates: Seattle: Sunday, December 3, 2000, 2:00-5:00 PM, Recreational Equipment, Inc. (REI), North Conference Room, 222 Yale N; Olympia: Monday, December 4, 2000, 10:00 AM-12:30 PM, Department of Ecology, Main Auditorium, 300 Desmond Drive; Tacoma: Monday, December 4, 2000: 5:00 PM-9:00 PM, Washington State History Museum, 1911 Pacific Avenue; Enumclaw: Tuesday, December 5, 2000, 5:00-9:00 PM, Green River Community College Center, 1414 Griffin; Packwood: Wednesday, December 6, 2000, 5:00-9:00 PM, Packwood Senior Center, 12931 U.S. Highway 12; Yakima: Thursday, December 7, 2000, 5:00-9:00 PM, Doubletree Hotel, 1507 North First Street; Eatonville: Friday, December 8, 2000, 5:00-9:00 PM, Pack Forest, 9010 453rd St. E.

Comments: If you wish to comment on the DEIS/GMP, you may mail your comments to the Mount Rainier Team, Denver Service Center, P.O. Box 25287, Denver, CO 80225-0287. You may also send your comments via the Internet to www.mountainercomments@nps.gov. Note that there are no spaces between the words. Capitalization does not matter. Please submit Internet comments as a text file avoiding the use of special characters and any form of encryption. Be sure to include your name and return street address in your Internet message.

Please be aware that names and addresses of respondents may be released if requested under the Freedom of Information Act. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety. Anonymous comments may be included in the public record. However, the NPS is not legally required to consider or respond to anonymous comments.

ADDRESSES: The DEIS/GMP will be available for review on the Internet at www.hps.gov/planning. and www.nps.gov/mora. Copies of the DEIS/GMP are available from the Superintendent, Mount Rainier National Park, Star Route, Tahoma Woods, WA 98304. Public reading copies of the DEIS/GMP will be available for review at the following locations: Office of the Superintendent, Mount Rainier National Park, Tahoma Woods, Washington 98304, phone (360) 569-2211; NPS Library, Columbia Cascades Support Office, 909 First Avenue, Seattle, WA 98104-1060, phone (206) 220-4114; Office of Public Affairs, Pacific West Region, NPS, 600 Harrison St., Suite 600, San Francisco, CA 94107-1372, phone (415) 427-1320; Office of Public Affairs, NPS, 18th and C Streets NW, Washington, DC 20240, phone (202) 208-6843.

SUPPLEMENTARY INFORMATION: The DEIS/GMP analyzes three alternatives for managing the resources, visitors, and facilities in Mount Rainier National Park. The plan is intended to provide a foundation to help park managers guide park programs and set priorities. The alternative that is finally chosen as the plan will guide the management of Mount Rainier National Park over the next 20 years.

The “no-action” alternative is a continuation of the present management course regarding the management of visitor use. The NPS's proposed action, alternative 2, would continue focusing on protecting the park's natural and cultural resources, while improving the quality of visitor experiences. Among other actions, shuttle service would be provided to Paradise, White River campground, Sunrise, Mowich Lake, and the Westside Road; overflow parking would be eliminated throughout the park; the Henry M. Jackson Memorial Visitor Center at Paradise would be replaced with a smaller facility; the Carbon River Road would eventually be closed to private vehicles; and private vehicles would park 0.5 mile from Mowich Lake. Alternative 3 would offer a different combination of visitor opportunities than those offered in the proposed action. Under this alternative more designated parking spaces would be provided at several popular facilities, visitors would be able to drive high-clearance vehicles on the Westside Road, the last 0.75 mile of the Mowich Lake Road would be surfaced, and State Road 410 would be plowed in the winter up to the White River entrance. None of the alternatives would propose major new developments within the park. Both alternatives 2 and 3 would establish a visitor carrying capacity framework, provide shuttles, eliminate overflow parking, provide new visitor information services and facilities, and recommend a boundary adjustment near the Carbon River entrance.

The DEIS/GMP evaluates the environmental consequences of the proposed action and the other alternatives on natural resources (e.g., air and water quality, soils, special status species), geologic (volcanic and nonvolcanic) hazards, cultural resources (e.g., historic resources, archeological resources), visitor experiences (e.g., visitor access, the range of activities available, wilderness values and experiences), and the socioeconomic environment (e.g., regional context, gateway communities).

FOR FURTHER INFORMATION CONTACT: Eric Walkenshaw, Mount Rainier National Park, at the above address and telephone number, or Larry Beal, Denver Service Center, P.O. Box 25287, Denver, CO 80225-0287, phone (303) 969-2454.

Dated: November 1, 2000.
William C. Walters
Deputy Regional Director, Pacific West Region.

[FR Doc. 00-29552 Filed 11-17-00; 8:45 am]

BILLING CODE 4310-70-P